DEPARTMENT OF ENERGY

Federal Energy Regulatory Commission

[Docket Nos. CP04-36-000, CP04-41-000]

Weaver's Cove Energy, L.L.C., Mill River Pipeline, L.L.C.; Notice of Limited Additional Period for Comment

January 19, 2005.

On July 30, 2004, the Secretary of the Federal Energy Regulatory Commission (FERC or Commission) issued a Notice of Availability of the Draft Environmental Impact Statement (DEIS) and the Draft General Conformity Determination for the Proposed Weaver's Cove LNG Project, in the above-docketed proceedings. Comments on the draft EIS were due to the Secretary by September 20, 2004. As described below in this Notice, because it took the Commission time to process the requests described in the following paragraph, we will allow a limited opportunity for those who receive additional information to submit supplemental comments based on that information. Responses will be included in the Final Environmental Impact Statement.

The Commission has received numerous requests under its critical energy infrastructure information (CEII) regulation, 18 CFR 388.113, for several documents filed as CEII by Weaver's Cover Energy, L.L.C. (Weaver's Cove). The Commission and the Commission's CEII Coordinator are currently processing these requests. To the extent that a CEII request existing as of January 19, 2005 is granted, notice is given that any such requester is hereby given a period of thirty calendar days after the additional information is made available to the requester within which to submit any additional comments on the DEIS related to the information obtained as part of the CEII request.

Magalie R. Salas,
Secretary.

[FR Doc. E5-342 Filed 1-28-05; 8:45 am]

BILLING CODE 6717-01-P